DEPARTMENT OF LABOR

Employment and Training Administration

[TA-W-71,447]

Amended Certification Regarding Eligibility To Apply for Worker Adjustment Assistance; Applied Materials, Inc.; Including On-Site Leased Workers From Adecco Employment Services, Aerotek, Inc., CDI IT Solutions, Inc. (CDI Corporation), D&Z Microelectronics, Pentagon Technology, Proactive Business Solution, Inc., Technical Resources, SQA Services, NSTAR, Ryder USA and Randstad Logistical Services, Austin, TX

In accordance with Section 223 of the Trade Act of 1974, as amended (“Act”), 19 U.S.C. 2273, the Department of Labor issued a Certification of Eligibility to Apply for Worker Adjustment Assistance on September 30, 2009, applicable to workers of Applied Materials, Inc., including on-site leased workers from Adecco Employment Services, Aerotek, Inc., CDI IT Solutions, D&Z Microelectronics, Pentagon Technology, Proactive Business Solution, Inc., Technical Resources, SQA Services and NSTAR, Austin, Texas. The notice was published in the Federal Register on November 17, 2009 (74 FR 59253). The notice was amended on December 15, 2009 to include the Unemployment Insurance (UI) wages for on-site leased workers from CDI IT Solutions is reported under CDI Corporation. The amended notice was published in the Federal Register on January 20, 2010 (75 FR 3251).

At the request of the State agency, the Department reviewed the certification for workers of the subject firm. The workers are engaged in the production of semiconductor equipment.

Information shows that leased workers from Ryder USA and Randstad Logistics were employed on-site at the Austin, Texas location of Applied Materials, Inc. The Department has determined that these workers were sufficiently under the control of Applied Materials, Inc., Austin, Texas to be considered leased workers.

Based on these findings, the Department is amending this certification to include workers leased from Ryder USA and Randstad Logistics working on-site at the Austin, Texas location of Applied Materials, Inc.

The intent of the Department's certification is to include all workers of the subject firm who were adversely affected by the shift in production of semiconductor equipment to Singapore.

The amended notice applicable to TA-W-71,447 is hereby issued as follows:

All workers of Applied Materials, Inc., including on-site leased workers from Adecco Employment Services, Aerotek, Inc., CDI IT Solutions, Inc. (CDI Corporation), D&Z Microelectronics, Pentagon Technology, Proactive Business Solution, Inc., Technical Resources, SQA Services, NSTAR, Ryder USA and Randstad Logistics, Austin, Texas, who became totally or partially separated from employment on or after June 25, 2008 through September 30, 2011, and all workers in the group threatened with total or partial separation from employment on date of certification through two years from the date of certification, are eligible to apply for adjustment assistance under Chapter 2 of Title II of the Trade Act of 1974, as amended.

Signed in Washington, DC this 6th day of September, 2011.
Michael W. Jaffe,
Certifying Officer, Office of Trade Adjustment Assistance.

[FR Doc. 2011-23936 Filed 9-16-11; 8:45 am]

BILLING CODE P